DEPARTMENT OF COMMERCE

Membership of the Departmental Performance Review Board

AGENCY: Department of Commerce.

ACTION: Notice of membership on the Departmental Performance Review Board.

SUMMARY: In accordance with 5 U.S.C., 4314(c)(4), Department of Commerce (DOC) announces the appointment of persons to serve as members of the Departmental Performance Review Board (DPRB). The DPRB is responsible for reviewing performance appraisals and ratings of Senior Executive Service (SES) members and serves as the higher level review of executives who report to an appointing authority. The appointment of these members to the DPRB will be for a period of 24 months.

EFFECTIVE DATE: The effective date of service of appointee to the Departmental Performance Review Board is upon publication of this notice.

FOR FURTHER INFORMATION CONTACT: Mary King, Director, Office of Executive Resources, Office of Human Resources Management, Office of the Director, 14th and Constitution Avenue, NW., Washington, D.C. 20230, (202) 482-3321.

SUPPLEMENTARY INFORMATION: The names and position titles of the members of the DPRB are set forth below by organization:

Department of Commerce; Departmental Performance Review Board Membership; 2005-2007

Office of the Secretary

Fred L. Schwien, Director, Executive Secretariat.

Aimee L. Strudwick, Chief of Staff to the Deputy Secretary.

Office of General Counsel

Craig S. Burkhardt, Chief Counsel for Technology Administration.

Chief Financial Officer and Assistant Secretary for Administration

William J. Fleming, Deputy Director for Human Resources Management.

Bureau of the Census

Dr. Hermann Habermann, Deputy Director.

Marvin Raines, Associate Director for Field Operations.

Economics and Statistics Administration

James K. White, Associate Under Secretary for Management.

Suzette Kern, Chief Financial Officer and Director for Administration.

Economics and Development Administration

Mary Pleffner, Deputy Assistant Secretary for Management.

National Telecommunications and Information Administration

Kathy D. Smith, Chief Counsel.

National Oceanic and Atmospheric Administration

Bonnie Morehouse, Director Program Analysis and Evaluation.

Maureen Wylie, Deputy Chief Financial Officer, Director of Budget.

Kathleen A. Kelly, Director, Office of Satellite Operations, NESDIS.

Technology Administration

Dan Caprio, Deputy Assistant Secretary for Technology Policy.

National Technical Information Service

Ellen Herbst, Director, National Technical Information Service.

National Institute of Standards and Technology

Richard F. Kayser, Director, Technology Services.

Kathleen M. Higgins, Director, Office of Law Enforcement Standards, EEEL.

Dated: October 19, 2005.
Mary King,
Director, Office of Executive Resources.

[FR Doc. 05-21424 Filed 10-26-05; 8:45 am]

BILLING CODE 3510-BS-M